DEPARTMENT OF STATE

[Public Notice 11025]

Commercial Participation in Domestic and International Events on Safety, Sustainability, and Emerging Markets in Outer Space

ACTION: Notice of meeting.

SUMMARY: Following up on the success of the Space Enterprise Summit in June 2019, the U.S. Department of State seeks commercial space industry participation in a series of domestic and international events promoting space commerce as well as best practices for safety, sustainability, and emerging markets in outer space. These events and industry participation are in line with the President's Space Policy Directive-2 regarding Streamlining Regulations on Commercial Use of Space and Space Policy Directive-3 concerning National Space Traffic Management Policy.

DATES: Participants will be invited to one or more workshops, meetings, symposia, and other such events related to safety, sustainability, and emerging markets in outer space between February 25, 2020 and December 31, 2020.

ADDRESSES: Attendance information, including addresses, will be posted on https://www.state.gov/events-office-of-space-and-advanced-technology/.

FOR FURTHER INFORMATION CONTACT: Ryan Guglietta, Foreign Affairs Officer, Office for Space and Advanced Technology, Bureau of Oceans and International Environmental and Scientific Affairs, Department of State, Washington, DC 20522, phone 202-663-3968, or email gugliettart@state.gov.

SUPPLEMENTARY INFORMATION: Events will vary in location and may be stand alone or on the margins of related events, and may include (but are not limited to) the United Nations Committee on the Peaceful Uses of Outer Space (COPUOS) Legal Subcommittee in Vienna in March 2019, the COPUOS plenary in Vienna in June 2019, and the 36th Space Symposium in Colorado in March/April 2019.

Participants should focus on the following:

Safety: Identify key safety issues for crewed and/or uncrewed outer space operations. Discuss current attempts to address these issues and suggest new concerns that may develop as the space sector advances.

Sustainability: Explore efforts to improve responsible behavior in space. Examine best practices and guidelines in Long-Term Sustainability for preserving the outer space environment for future civil and commercial space investment and use.

Emerging Markets: Discuss the challenges to an economically viable space industry and how these challenges relate to the domestic and international regulatory environment. Share recent advances within the commercial space sector and how they may develop in the future.

Johnathan A. Margolis,
Deputy Assistant Secretary.

[FR Doc. 2020-03684 Filed 2-24-20; 8:45 am]

BILLING CODE 4710-09-P